DEPARTMENT OF HOMELAND SECURITY

Coast Guard

33 CFR Part 100

[Docket No. USCG-2010-0312]

Regattas and Marine Parades; Great Lakes Annual Marine Events

AGENCY: Coast Guard, DHS.

ACTION: Notice of enforcement of regulation.

SUMMARY: The Coast Guard will enforce the local regulations for annual regattas and marine parades in the Captain of the Port Detroit zone from 8 a.m. on June 25, 2010 through 8 p.m. on July 25, 2010. This action is necessary and intended to ensure safety of life on the navigable waters immediately prior to, during, and immediately after regattas or marine parades. This rule will establish restrictions upon, and control movement of, vessels in specified areas immediately prior to, during, and immediately after regattas or marine parades. During the enforcement periods, no person or vessel may enter the regulated areas without permission of the Captain of the Port.

DATES: The regulations in 33 CFR part 100 will be enforced as listed below under the subject heading SUPPLEMENTARY INFORMATION.

FOR FURTHER INFORMATION CONTACT: If you have questions on this notice, call or e-mail Commander Joseph Snowden, Prevention, U.S. Coast Guard Sector Detroit, 110 Mount Elliot Ave., Detroit MI, 48207; telephone (313)-568-9508, e-mail Joseph.H.Snowden@uscg.mil.

SUPPLEMENTARY INFORMATION: The Coast Guard will enforce the following regulated areas, listed in three separate sections of 33 CFR part 100, which were published in the July 18, 2008 issue of the Federal Register. (73 FR 41263, 41264):

§ 100.914 Trenton Rotary Roar on the River, Trenton, MI.

This regulation is effective from 12 p.m. on July 23, 2010 until 8 p.m. on July 25, 2010. This regulation will be enforced from 12 p.m. to 6 p.m. on July 23, 2010; and from 8 a.m. to 8 p.m. on July 24 and 25, 2010.

§ 100.915 St. Clair River Classic Offshore Race, St. Clair, MI.

This regulation is effective from 11 a.m. on July 23, 2010 until 6 p.m. on July 25, 2010. This regulation will be enforced daily from 11 a.m. to 6 p.m. on July 23, 24, and 25, 2010.

§ 100.919 International Bay City River Roar, Bay City, MI.

This regulation is effective from 8 a.m. on June 25, 2010 until 6 p.m. on June 28, 2010. This regulation will be enforced from 8 a.m. to 6 p.m. on June 25; and from 9 a.m. to 6 p.m. on June 26 and 27, 2010. In the case of inclement weather on June 27, 2010, this regulation will also be enforced from 9 a.m. to 6 p.m. on June 28, 2010.

In accordance with the general regulations in § 100.901 of this part, entry into, transiting, or anchoring within these regulated areas is prohibited unless authorized by the Captain of the Port Detroit, or his designated on-scene representative.

These regulated areas are closed to all vessel traffic, except as may be permitted by the Captain of the Port Detroit or his designated on-scene representative.

The “on-scene representative” of the Captain of the Port is any Coast Guard commissioned, warrant, or petty officer who has been designated by the Captain of the Port to act on his behalf. The on-scene representative of the Captain of the Port will be aboard either a Coast Guard or Coast Guard Auxiliary vessel. The Captain of the Port or his designated on scene representative may be contacted via VHF Channel 16.

Vessel operators desiring to enter or operate within the regulated area shall contact the Captain of the Port Detroit or his on-scene representative to obtain permission.

Vessel operators given permission to enter or operate in the regulated area must comply with all directions given to them by the Captain of the Port or his on-scene representative.

Dated: April 22, 2010.
E. J. Marohn,
Commander, U.S. Coast Guard, Acting Captain of the Port Detroit.

[FR Doc. 2010-11081 Filed 5-10-10; 8:45 am]

BILLING CODE 9110-04-P